DEPARTMENT OF THE INTERIOR

National Park Service

[NPS-WASO-NAGPRA-NPS0037432; PPWOCRADN0-PCU00RP14.R50000]

Notice of Intended Disposition: U.S. Army Corps of Engineers, Nashville District, Nashville, TN

AGENCY: National Park Service, Interior.

ACTION: Notice.

SUMMARY: In accordance with the Native American Graves Protection and Repatriation Act (NAGPRA), the U.S. Army Corps of Engineers, Nashville District intends to carry out the disposition of human remains removed from Federal lands to the lineal descendants, Indian Tribe, or Native Hawaiian organization with priority for disposition in this notice.

DATES: Disposition of the human remains or cultural items in this notice may occur on or after March 25, 2024. If no claim for disposition is received by February 24, 2025, the human remains or cultural items in this notice will become unclaimed human remains or cultural items.

ADDRESSES: Crystal Geiger, Archaeologist, U.S. Army Corps of Engineers, Nashville District, 110 9th Avenue South, Room A-405, Nashville, TN 37203, telephone (615) 736-2472, email crystal.l.geiger@usace.army.mil.

SUPPLEMENTARY INFORMATION: This notice is published as part of the National Park Service's administrative responsibilities under NAGPRA. The determinations in this notice are the sole responsibility of the U.S. Army Corps of Engineers, Nashville District and additional information on the human remains or cultural items in this notice, including the results of consultation, can be found in the related records. The National Park Service is not responsible for the identifications in this notice.

Abstract of Information Available

Based on the information available, human remains representing, at least, one individual have been reasonably identified. No associated funerary objects are present. In October 2023 a local fisherman reported exposed skeletal remains located on U.S. Army Corps, Nashville District managed lands in Dover, Stewart County, TN. The Stewart County Deputy Sheriff and a representative from the Tennessee Bureau of Investigation (TBI) visited the site and the TBI took possession of the remains. The human remains collected by TBI were transferred to U.S. Army Corps, Nashville District custody on October 20, 2023, and are stored in a secure location. Given the stratigraphic location of the discovery, and nearby pre-contact period sites with similar graves, the human remains are determined to be Native American in origin.

Determinations

The U.S. Army Corps of Engineers, Nashville District has determined that:

• The human remains described in this notice represent the physical remains of one individual of Native American ancestry.

• The Cherokee Nation; Eastern Band of Cherokee Indians; The Chickasaw Nation; and the United Keetoowah Band of Cherokee Indians in Oklahoma have priority for disposition of the human remains or cultural item described in this notice.

Claims for Disposition

Written claims for disposition of the human remains or cultural items in this notice must be sent to the appropriate official identified in this notice under ADDRESSES. If no claim for disposition is received by February 24, 2025, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after March 25, 2024. If competing claims for disposition are received, the U.S. Army Corps of Engineers, Nashville District must determine the most appropriate claimant prior to disposition. Requests for joint disposition of the human remains or cultural items are considered a single request and not competing requests. The U.S. Army Corps of Engineers, Nashville District is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 14, 2024.
Melanie O'Brien,
Manager, National NAGPRA Program.

[FR Doc. 2024-03651 Filed 2-22-24; 8:45 am]

BILLING CODE 4312-52-P